DEPARTMENT OF TRANSPORTATION

Federal Aviation Administration

14 CFR Part 39

[Docket No. FAA-2020-0713; Product Identifier 2019-CE-061-AD]

RIN 2120-AA64

Airworthiness Directives; Gulfstream Aerospace Corporation Airplanes

AGENCY: Federal Aviation Administration (FAA), DOT.

ACTION: Proposed rule; withdrawal.

SUMMARY: The FAA is withdrawing a notice of proposed rulemaking (NPRM) that proposed to adopt a new airworthiness directive (AD) for certain Gulfstream Aerospace Corporation (Gulfstream) Model GVII-G500 airplanes. The NPRM was prompted by a report of a fuel quantity disparity between the overhead panel touch screens and the touch screen controllers. The NPRM proposed to require incorporating operating limitations into the airplane flight manual (AFM) until the fuel quantity management system (FQMS) software is updated. Since issuance of the NPRM, the FAA has determined that there is not an unsafe condition because all affected airplanes have updated software. Accordingly, the NPRM is withdrawn.

DATES: As of July 23, 2021, the proposed rule, which published in the Federal Register on July 28, 2020 (85 FR 45345), is withdrawn.

ADDRESSES:

Examining the AD Docket

You may examine the AD docket at https://www.regulations.gov by searching for and locating Docket No. FAA-2020-0713; or in person at Docket Operations between 9 a.m. and 5 p.m., Monday through Friday, except Federal holidays. The AD docket contains this AD action, any comments received, and other information. The street address for Docket Operations is U.S. Department of Transportation, Docket Operations, M-30, West Building Ground Floor, Room W12-140, 1200 New Jersey Avenue SE, Washington, DC 20590.

FOR FURTHER INFORMATION CONTACT: Jared Meyer, Aviation Safety Engineer, Atlanta ACO Branch, FAA, 1701 Columbia Avenue, College Park, GA 30337; phone: (404) 474-5534; fax: (404) 474-5605; email: jared.meyer@faa.gov.

SUPPLEMENTARY INFORMATION:

Background

The FAA issued an NPRM that proposed to amend 14 CFR part 39 by adding an AD that would apply to certain serial-numbered Gulfstream Model GVII-G500 airplanes. The NPRM published in the Federal Register on July 28, 2020 (85 FR 45345). The NPRM was prompted by a report of the affected airplanes exhibiting a disparity between the fuel quantities displayed on the overhead panel touch screens and the fuel quantities displayed on the touch screen controllers. An investigation revealed two known failure conditions that the Model GVII-G500 FQMS does not properly detect and report to the crew. These failure conditions are fuel quantity probe drift and an FQMS over-current condition, which could result in erroneous and misleading fuel quantity indications and could also result in erroneous and misleading fuel imbalance indications. These conditions could cause a false annunciation of a fuel imbalance, a failure to annunciate an actual fuel imbalance, and a condition where the actual fuel quantity is less than or greater than the indicated fuel quantity. The FQMS software logic does not properly detect or compensate for these failure conditions. This condition, if not corrected, could result in fuel starvation during flight, performance impacts of the airplane having more fuel than indicated, and a roll moment due to a fuel imbalance.

The NPRM proposed to require incorporating operating limitations into the AFM until the fuel quantity signal conditioner FQMS software is updated to version 10003-42130-01-19.03.

Actions Since the NPRM Was Issued

After issuance of the NPRM, the FAA determined that all Gulfstream Model GVII-G500 airplanes are in compliance with the proposed software update, and the unsafe condition has been removed from the fleet. In addition, since Gulfstream controls the software, it is unlikely the unsafe condition will be re-introduced.

Based on the above information, the FAA has determined that AD action is not warranted and the proposal should be withdrawn.

Comments

The FAA received comments from Gulfstream and an individual commenter.

Requests

Gulfstream requested that the FAA change the credit for previous actions. The individual commenter requested the FAA clarify the correct revision of the service information to reference.

The FAA acknowledges these comments. However, because the NPRM is being withdrawn, the commenters' requests are no longer necessary.

Withdrawal of the NPRM constitutes only such action and does not preclude the FAA from further rulemaking on this issue, nor does it commit the FAA to any course of action in the future.

Regulatory Findings

Since this action only withdraws an NPRM, it is neither a proposed AD nor a final rule. This action, therefore, is not covered under Executive Order 12866 or the Regulatory Flexibility Act.

List of Subjects in 14 CFR Part 39

Air transportation, Aircraft, Aviation safety, Incorporation by reference, Safety.

The Withdrawal

Accordingly, the notice of proposed rulemaking, which published in the Federal Register on July 28, 2020 (85 FR 45345), is withdrawn.

Issued on July 15, 2021.
Ross Landes,
Deputy Director for Regulatory Operations, Compliance & Airworthiness Division, Aircraft Certification Service.

[FR Doc. 2021-15533 Filed 7-22-21; 8:45 am]

BILLING CODE 4910-13-P